ENVIRONMENTAL PROTECTION AGENCY

40 CFR Part 52

[R05-OAR-2004-IN-0004; FRL-7820-5]

Approval and Promulgation of Implementation Plans; Indiana

AGENCY: Environmental Protection Agency (EPA).

ACTION: Proposed rule.

SUMMARY: The EPA is proposing to approve revisions to volatile organic compound (VOC) requirements for Eli Lilly and Company (Eli Lilly). This facility is in Marion County, Indiana. The Indiana Department of Environmental Management (IDEM) submitted a Commissioner's Order requesting the revision on February 11, 2004 as an amendment to the Indiana State Implementation Plan (SIP).

Eli Lilly operates a synthesized pharmaceutical manufacturing facility in Marion County. This SIP revision covers new and existing sources in Eli Lilly's Building 110 pilot plant. Eli Lilly is seeking an exemption from 326 Indiana Administrative Code (IAC) 8-5-3, control requirements for synthesized pharmaceutical manufacturing, under the site-specific reasonably available control technology (RACT) rule, 326 IAC 8-1-5. Eli Lilly is seeking this exemption for reactors, filters, centrifuges, and vacuum dryers. Other Building 110 sources such as air dryers, in-process tanks, and storage tanks comply with 326 IAC 8-5-3. The total VOC annual emissions from Building 110 are limited to less than 10 tons per year (TPY).

DATES: The EPA must receive written comments by December 8, 2004.

ADDRESSES: Submit comments, identified by Docket ID No. R05-OAR-2004-IN-0004 by one of the following methods: Federal eRulemaking Portal: http://www.regulations.gov. Follow the on-line instructions for submitting comments. E-mail: bortzer.jay@epa.gov., Fax: (312) 886-5824. Mail: You may send written comments to: J. Elmer Bortzer, Chief, Air Programs Branch, (AR-18J), Environmental Protection Agency, 77 West Jackson Boulevard, Chicago, Illinois 60604.

Hand delivery: Deliver your comments to: J. Elmer Bortzer, Chief, Air Programs Branch (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to Docket ID No. R05-OAR-2004-IN-0004. EPA's policy is that all comments received will be included in the public docket without change, including any personal information provided, unless the comment includes information claimed to be Confidential Business Information (CBI) or other information whose disclosure is restricted by statute. Do not submit information that you consider to be CBI or otherwise protected through regulations.gov, or e-mail. The Federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the EDOCKET index at http://www.epa.gov/edocket. Although listed in the index, some information is not publicly available, i.e., Confidential Business Information (CBI) or other information whose disclosure is restricted by statute. Publicly available docket materials are available either electronically in EDOCKET or in hard copy at Environmental Protection Agency, Region 5, Air and Radiation Division, 77 West Jackson Boulevard, Chicago, Illinois 60604. (We recommend that you telephone Matt Rau, Environmental Engineer, at (312) 886-6524 before visiting the Region 5 office.) This Facility is open from 8:30 AM to 4:30 PM, Monday through Friday, excluding legal holidays.

FOR FURTHER INFORMATION CONTACT: Matt Rau, Environmental Engineer, Criteria Pollutant Section, Air Programs Branch (AR-18J), U.S. Environmental Protection Agency, Region 5, 77 West Jackson Boulevard, Chicago, Illinois 60604, Telephone: (312) 886-6524.

SUPPLEMENTARY INFORMATION: Throughout this document wherever “we,” “us,” or “our” are used we mean the EPA.

Table of Contents

I. What Actions Are the EPA Taking Today?

II. General Information.

III. Where Can I Find More Information About This Proposal and the Corresponding Direct Final Rule?

I. What Actions Are the EPA Taking Today?

EPA is proposing to approve revisions to VOC requirements for the Eli Lilly pharmaceutical manufacturing facility in Marion County, Indiana. The revisions include an exemption from the control requirements of 326 IAC 8-5-3 for reactors, centrifuges, filters, and vacuum dryers in Building 110, the pilot plant for Eli Lilly. This exemption can be approved under Indiana's site-specific RACT rule, 326 IAC 8-1-5. Another revision is that Eli Lilly can now add research and development equipment to Building 110 without a new SIP revision. Eli Lilly will follow the appropriate RACT plan for any new equipment and keep the total annual VOC limit for Building 110 to less than 10 TPY.

II. General Information

What Should I Consider as I Prepare My Comments for EPA?

1. Submitting CBI. Do not submit this information to EPA through EDOCKET, regulations.gov, or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

I. Identify the rulemaking by docket number and other identifying information (subject heading, Federal Register date and page number).

II. Follow directions—The agency may ask you to respond to specific questions or organize comments by referencing a Code of Federal Regulations (CFR) part or section number.

III. Explain why you agree or disagree; suggest alternatives and substitute language for your requested changes.

IV. Describe any assumptions and provide any technical information and/or data that you used.

V. If you estimate potential costs or burdens, explain how you arrived at your estimate in sufficient detail to allow for it to be reproduced.

VI. Provide specific examples to illustrate your concerns, and suggest alternatives.

VII. Explain your views as clearly as possible, avoiding the use of profanity or personal threats.

VIII. Make sure to submit your comments by the comment period deadline identified.

III. Where Can I Find More Information About This Proposal and the Corresponding Direct Final Rule?

For additional information see the direct final rule published in the rules section of this Federal Register.

List of Subjects in 40 CFR Part 52

Environmental protection, Air pollution control, Intergovernmental relations, Ozone, Volatile organic compounds.

Dated: September 16, 2004.
Norman Niedergang,
Acting Regional Administrator, Region 5.

[FR Doc. 04-24822 Filed 11-5-04; 8:45 am]

BILLING CODE 6560-50-P